DEPARTMENT OF THE INTERIOR

Fish and Wildlife Service

Notice of Intent To Prepare a Comprehensive Conservation Plan and Environmental Assessment for Sullys Hill National Game Preserve, Devils Lake, ND

AGENCY: Fish and Wildlife Service, Interior.

ACTION: Notice of intent.

SUMMARY: The U.S. Fish and Wildlife Service (Service) intends to gather information necessary to prepare a Comprehensive Conservation Plan (CCP) and associated environmental documents for Sullys Hill National Game Preserve (NGP) located in Devils Lake, North Dakota. The Service is issuing this notice in compliance with its policy to advise other organizations and the public of its intentions, and to obtain suggestions and information on the scope of issues to be considered in the planning process.

DATES: Written comments should be postmarked by August 1, 2006.

ADDRESSES: Comments and requests for more information regarding Sullys Hill NGP should be sent to Laura King, Planning Team Leader, Tewaukon NWR, Division of Refuge Planning, 9754 143 1/2 Ave., SE., Cayuga, ND 58013-9764.

FOR FURTHER INFORMATION CONTACT: Laura King, Planning Team Leader, Tewaukon NWR, Division of Refuge Planning, 9754 143 1/2 Ave., SE., Cayuga, ND 58013-9764, or Linda Kelly, Chief, Branch of Comprehensive Conservation Planning, P.O. Box 25486, Denver Federal Center, Denver, Colorado 80225.

SUPPLEMENTARY INFORMATION: The Service has initiated the CCP for Sullys Hill NGP for the conservation and enhancement of its natural resources. This preserve is part of the National Wildlife Refuge System. The preserve has two establishing purposes including, Executive Order 3596, dated December 22, 1921, which states, “* * * all the lands that are now reserved or may hereafter be included within the boundaries of the * * * Sullys Hill Park Game Preserve * * * are hereby further reserved and set apart for the use * * * as a refuges and breeding ground for birds.” The second purpose is in the Act of March 3, 1931, establishing Sullys Hill NGP “* * * as a big game preserve, refuge, and breeding ground for wild animals and birds * * * provided that the same preserve is to be made available to the public for recreational purposes in so far as consistent with the use of this area as a game preserve: provided further, that hunting shall not be permitted on said game preserve.” This Refuge encompasses 1,674 acres encompassing both oak forest and prairie, a unique habitat type in North Dakota. When this preserve was established, bison and elk were stocked and are contained by a fence.

During the CCP process, management goals, objectives, and strategies will be developed to carry out the purposes of the preserve and to comply with laws and policies governing refuge management and public use of refuges.

The Service requests input as to which issues affecting management or public use should be addressed during the planning process. The Service is especially interested in receiving public input in the following areas:

(1) What do you value most about this preserve?

(2) What problems or issues do you see affecting management of this preserve?

(3) What changes, if any, would you like to see in the management of this preserve?

The Service has provided the above questions for your optional use. The Service has no requirement that you provide information; however, any comments received by the planning team will be used as part of the planning process.

Opportunities for public input will also be provided at a public meeting to be held at the Sullys Hill NGP Visitor Center on June 29, 2006, 6:30 to 8:30 p.m. If you would like to receive the project newsletter, please contact Laura King, Planning Team Leader, at the above address, by July 1, 2006.

All information provided voluntarily by mail, phone, or at public meetings (e.g., names, addresses, letters of comment, input recorded during meetings) becomes part of the official public record. If requested under the Freedom of Information Act by a private citizen or organization, the Service may provide copies of such information.

The environmental review of this project will be conducted in accordance with the requirements of the National Environmental Policy Act of 1969, as amended (42 U.S.C. 4321 et seq.); NEPA Regulations (40 CFR 1500-1508); other appropriate Federal laws and regulations; Executive Order 12996; the National Wildlife Refuge System Improvement Act of 1997; and Service policies and procedures for compliance with those regulations.

Dated: April 11, 2006.
James J. Slack
Deputy Regional Director, Region 6, Denver, CO.

[FR Doc. E6-7824 Filed 5-22-06; 8:45 am]

BILLING CODE 4310-55-P